DEPARTMENT OF ENERGY

Federal Energy Regulatory Commission

Combined Notice of Filings #1

Take notice that the Commission received the following exempt wholesale generator filings:

Docket Numbers: EG25-12-000.

Applicants: Azalea Springs Solar Park LLC.

Description: Azalea Springs Solar Park LLC submits Notice of Self-Certification of Exempt Wholesale Generator Status.

Filed Date: 10/18/24.

Accession Number: 20241018-5138.

Comment Date: 5 p.m. ET 11/8/24.

Docket Numbers: EG25-13-000.

Applicants: Duff Solar Park LLC.

Description: Duff Solar Park LLC submits Notice of Self-Certification of Exempt Wholesale Generator Status.

Filed Date: 10/18/24.

Accession Number: 20241018-5140.

Comment Date: 5 p.m. ET 11/8/24.

Docket Numbers: EG25-14-000.

Applicants: Pleasantville Solar Park LLC.

Description: Pleasantville Solar Park LLC submits Notice of Self-Certification of Exempt Wholesale Generator Status.

Filed Date: 10/18/24.

Accession Number: 20241018-5142.

Comment Date: 5 p.m. ET 11/8/24.

Docket Numbers: EG25-15-000.

Applicants: Riverstart Solar Park IV LLC.

Description: Riverstart Solar Park IV LLC submits Notice of Self-Certification of Exempt Wholesale Generator Status.

Filed Date: 10/18/24.

Accession Number: 20241018-5143.

Comment Date: 5 p.m. ET 11/8/24.

Docket Numbers: EG25-16-000.

Applicants: Sandrini BESS Storage LLC.

Description: Sandrini BESS Storage LLC submits Notice of Self-Certification of Exempt Wholesale Generator Status.

Filed Date: 10/18/24.

Accession Number: 20241018-5144.

Comment Date: 5 p.m. ET 11/8/24.

Docket Numbers: EG25-17-000.

Applicants: Peregrine Energy Storage, LLC.

Description: Peregrine Energy Storage, LLC submits Notice of Self-Certification of Exempt Wholesale Generator Status.

Filed Date: 10/18/24.

Accession Number: 20241018-5147.

Comment Date: 5 p.m. ET 11/8/24.

Take notice that the Commission received the following electric rate filings:

Docket Numbers: ER24-417-001.

Applicants: Flat Ridge Interconnection LLC.

Description: Compliance filing: Compliance Filing Reflecting Rate Schedule Effective Date to be effective N/A.

Filed Date: 10/18/24.

Accession Number: 20241018-5026.

Comment Date: 5 p.m. ET 11/8/24.

Docket Numbers: ER24-422-001.

Applicants: Flat Ridge 2 Wind Energy LLC.

Description: Compliance filing: Compliance Filing Reflecting Certiciate of Concurrence Effective Date to be effective N/A.

Filed Date: 10/18/24.

Accession Number: 20241018-5024.

Comment Date: 5 p.m. ET 11/8/24.

Docket Numbers: ER24-425-001.

Applicants: Flat Ridge 4 Wind, LLC.

Description: Compliance filing: Compliance Filing Reflecting Amended CFA Actual Rate Schedule Effective Date to be effective N/A.

Filed Date: 10/18/24.

Accession Number: 20241018-5118.

Comment Date: 5 p.m. ET 11/8/24.

Docket Numbers: ER24-426-001.

Applicants: Flat Ridge 5 Wind Energy LLC.

Description: Compliance filing: Compliance Filing Reflecting Amended CFA Actual Rate Schedule Effective Date to be effective N/A.

Filed Date: 10/18/24.

Accession Number: 20241018-5121.

Comment Date: 5 p.m. ET 11/8/24.

Docket Numbers: ER24-427-001.

Applicants: Flat Ridge 3 Wind Energy, LLC.

Description: Compliance filing: Compliance Filing Reflecting Certificate of Concurrence Effective Date to be effective N/A.

Filed Date: 10/18/24.

Accession Number: 20241018-5116.

Comment Date: 5 p.m. ET 11/8/24.

Docket Numbers: ER24-2843-001.

Applicants: Atrisco Solar SF LLC.

Description: Tariff Amendment: Amendment to the Amended and Restated Lease Agreement to be effective 8/24/2024.

Filed Date: 10/18/24.

Accession Number: 20241018-5000.

Comment Date: 5 p.m. ET 10/28/24.

Docket Numbers: ER24-2843-002.

Applicants: Atrisco Solar SF LLC.

Description: Tariff Amendment: Second Amendment to the Amended and Restated Lease Agreement to be effective 8/24/2024.

Filed Date: 10/18/24.

Accession Number: 20241018-5123.

Comment Date: 5 p.m. ET 10/28/24.

Docket Numbers: ER25-136-000.

Applicants: PJM Interconnection, L.L.C.

Description: Tariff Amendment: Notice of Cancellation of WMPA, SA No. 5626; AE1-160 re: withdrawal to be effective 12/17/2024.

Filed Date: 10/17/24.

Accession Number: 20241017-5163.

Comment Date: 5 p.m. ET 11/7/24.

Docket Numbers: ER25-137-000.

Applicants: PJM Interconnection, L.L.C.

Description: Tariff Amendment: Notice of Cancellation of WMPA, SA No. 6085; AF2-275 re:withdrawal to be effective 12/17/2024.

Filed Date: 10/17/24.

Accession Number: 20241017-5166.

Comment Date: 5 p.m. ET 11/7/24.

Docket Numbers: ER25-138-000.

Applicants: Southwest Power Pool, Inc.

Description: § 205(d) Rate Filing: Price Formation During Load Shed and Emergency Assistance Events to be effective 12/31/9998.

Filed Date: 10/18/24.

Accession Number: 20241018-5034.

Comment Date: 5 p.m. ET 11/8/24.

Docket Numbers: ER25-139-000.

Applicants: American Electric Power Service Corporation, PJM Interconnection, L.L.C.

Description: § 205(d) Rate Filing: American Electric Power Service Corporation submits tariff filing per 35.13(a)(2)(iii: AEP submits update to attachment 1 of ILDSA, SA No. 1336 (10/1/24) to be effective 10/1/2024.

Filed Date: 10/18/24.

Accession Number: 20241018-5047.

Comment Date: 5 p.m. ET 11/8/24.

Docket Numbers: ER25-140-000.

Applicants: Atlantic City Electric Company, PJM Interconnection, L.L.C.

Description: § 205(d) Rate Filing: Atlantic City Electric Company submits tariff filing per 35.13(a)(2)(iii: ACE Order No. 898 Update to Tariff Attachment H-1A to be effective 1/1/2025.

Filed Date: 10/18/24.

Accession Number: 20241018-5052.

Comment Date: 5 p.m. ET 11/8/24.

Docket Numbers: ER25-141-000.

Applicants: Delmarva Power & Light Company, PJM Interconnection, L.L.C.

Description: § 205(d) Rate Filing: Delmarva Power & Light Company submits tariff filing per 35.13(a)(2)(iii: DPL Order No. 898 Update to Tariff Attachment H-3D to be effective 1/1/2025.

Filed Date: 10/18/24.

Accession Number: 20241018-5055.

Comment Date: 5 p.m. ET 11/8/24.

Docket Numbers: ER25-142-000.

Applicants: PECO Energy Company, PJM Interconnection, L.L.C.

Description: § 205(d) Rate Filing: PECO Energy Company submits tariff filing per 35.13(a)(2)(iii: PECO Order No. 898 Update to Tariff Attachment H-7A to be effective 1/1/2025.

Filed Date: 10/18/24.

Accession Number: 20241018-5061.

Comment Date: 5 p.m. ET 11/8/24.

Docket Numbers: ER25-143-000.

Applicants: Midcontinent Independent System Operator, Inc.

Description: § 205(d) Rate Filing: 2024-10-18_SA 4366 ATC-Paris Solar Energy Center GIA (J1778) to be effective 10/9/2024.

Filed Date: 10/18/24.

Accession Number: 20241018-5062.

Comment Date: 5 p.m. ET 11/8/24.

Docket Numbers: ER25-144-000.

Applicants: Potomac Electric Power Company, PJM Interconnection, L.L.C.

Description: § 205(d) Rate Filing: Potomac Electric Power Company submits tariff filing per 35.13(a)(2)(iii: PEPCO Order No. 898 Update to Tariff Attachment H-9A to be effective 1/1/2025.

Filed Date: 10/18/24.

Accession Number: 20241018-5066.

Comment Date: 5 p.m. ET 11/8/24.

Docket Numbers: ER25-145-000.

Applicants: Midcontinent Independent System Operator, Inc.

Description: § 205(d) Rate Filing: 2024-10-18_SA 4367 ATC-Koshkonong Solar Energy Center GIA (J1779) to be effective 10/9/2024.

Filed Date: 10/18/24.

Accession Number: 20241018-5075.

Comment Date: 5 p.m. ET 11/8/24.

Docket Numbers: ER25-146-000.

Applicants: PacifiCorp.

Description: § 205(d) Rate Filing: Tri-State Master Installation, O&M Agmt for Metering (Rev 6) (RS No. 716) to be effective 12/18/2024.

Filed Date: 10/18/24.

Accession Number: 20241018-5113.

Comment Date: 5 p.m. ET 11/8/24.

Docket Numbers: ER25-147-000.

Applicants: PJM Interconnection, L.L.C.

Description: Tariff Amendment: Notice of Cancellation of WMPA, SA No. 6081; AF2-426 re: withdrawal to be effective 12/18/2024.

Filed Date: 10/18/24.

Accession Number: 20241018-5132.

Comment Date: 5 p.m. ET 11/8/24.

Docket Numbers: ER25-148-000.

Applicants: PJM Interconnection, L.L.C.

Description: Tariff Amendment: Cancellation of WMPA, SA No. 6268; AG2-391 to be effective 12/18/2024.

Filed Date: 10/18/24.

Accession Number: 20241018-5139.

Comment Date: 5 p.m. ET 11/8/24.

Docket Numbers: ER25-149-000.

Applicants: PJM Interconnection, L.L.C.

Description: Tariff Amendment: Notice of Cancellation of WMPA, SA No. 5812; AF1-166 to be effective 12/18/2024.

Filed Date: 10/18/24.

Accession Number: 20241018-5153.

Comment Date: 5 p.m. ET 11/8/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: October 18, 2024.
Debbie-Anne A. Reese,
Secretary.

[FR Doc. 2024-24811 Filed 10-24-24; 8:45 am]

BILLING CODE 6717-01-P